DEPARTMENT OF DEFENSE

Department of the Army; Corps of Engineers

Intent To Prepare a Draft Environmental Impact Statement for the Florida Bay/Florida Keys Integrated Feasibility Study

AGENCY: Department of the Army, U.S. Army Corps of Engineers, DoD.

ACTION: Notice of intent.

SUMMARY: The U.S. Army Corps of Engineers (Corps), Jacksonville District, intends to prepare a Draft Environmental Impact Statement (DEIS) for Florida Bay/Florida Keys Integrated Feasibility Study. The study is a cooperative effort between the Corps and the South Florida Water Management District (SFWMD), which is a cooperating agency for this DEIS. One of the recommendations of the final report of the Central & South Florida (C&SF) Comprehensive Review Study (Restudy) was the implementation of the Florida Bay/Florida Keys Integrated Feasibility Study. This study is intended to develop a comprehensive watershed plan, which identifies structural and/or operational modifications upstream of Florida Bay and to improve water quality in Florida Bay and Florida Keys. This study is a component of the Comprehensive Everglades Restoration Plan (CERP), a multi-year effort to restore the greater Everglades ecosystem while providing water supply and other water-related benefits to South Florida over many decades.

FOR FURTHER INFORMATION CONTACT: Mr. Brad Tarr, U.S. Army Corps of Engineers, Planning Division, Environmental Branch, P.O. Box 4970, Jacksonville, FL, 32232-0019, by email bradley.a.tarr@usace.army.mil, or by telephone at 904-232-3592.

SUPPLEMENTARY INFORMATION:

a. Authorization: The authority for this project is contained in Section 601(c)(x) of the Water Resources Development Act (WRDA) 2000. The “Design Agreement between the Department of the Army and the SFWMD for the Design of Elements of the Comprehensive Plan for the Everglades and South Florida Ecosystem Restoration Project” contains additional guidance.

b. Study Area: Florida Bay and the Florida Keys are located in southern Dade and Monroe Counties. These areas are the receiving bodies of water released from the everglades through both Shark River and Taylor sloughs. The Study area extends from the western edge of Florida Bay out beyond the reef tract and south to Key West. The Northern Limits are wetlands above the coastal lakes on the northern edge of Florida Bay.

c. Project Scope: The Restudy recommended conducting a feasibility study to comprehensively examine the Florida Bay and Florida Keys marine habitats and environmental conditions, along with the actions and land uses upstream, to determine the modifications necessary to successfully restore water quality and ecological conditions to the region.

The study will evaluate alternatives based on their ability to improve water deliveries to the natural system, protect and conserve water resources, improve water quality, protect or restore fish and wildlife and their associated habitat, restore and manage wetland and associated upland ecosystems, sustain economic and natural resources, and other performance criteria being developed by the Project Delivery Team.

d. Preliminary Alternatives: Additional alternatives will be drafted which may be revised pending model results and public feedback. These alternatives will provide operational targets to upstream modifications, as well as, potential structural changes and wetland or flow restoration.

The Environmental Impact Statement (EIS) will include an evaluation of adverse environmental impacts, including but not limited to, water quality, socio-economic, archeological and biological. In addition to adverse impacts, the evaluation will also focus on how well the plans perform with regard to specific performance measures.

e. Issues: The EIS will address the impacts concerning freshwater flow into Florida Bay from both Shark River and Taylor sloughs; and water quality, particularly in the receiving waters of Florida Bay and the reef tract.

The EIS will also address other environmental issues including: Impacts to the estuaries; flood protection; aesthetics and recreation; fish and wildlife resources, including protected species; cultural resources; and other impacts identified through scoping, public involvement, and interagency coordination.

f. Scoping: A scoping letter and public workshops will be used to invite comments on alternatives and issues from Federal, State, and local agencies, affected Indian tribes, and other interested private organizations and individuals. The next public workshops are scheduled for October 8, 2002, at the Marathon Government Center, on 2798 Overseas Highway, Marathon, Florida; and on October 9, 2002 at the Key Largo Civil Club, on 209 Ocean Bay Drive, Key Largo, Florida. The meetings will begin at 7 p.m. and continue to 9 p.m.

Other public meetings will be held over the course of the study; the exact location, dates, and times will be announced in public notices and local newspapers.

g. DEIS Preparation: The DEIS is currently scheduled for publication in January 2005.

Dated: September 10, 2002.
James C. Duck,
Chief, Planning Division.

[FR Doc. 02-24533 Filed 9-26-02; 8:45 am]

BILLING CODE 3710-AJ-M